DEPARTMENT OF TRANSPORTATION

Federal Aviation Administration

14 CFR Part 39

[Docket No. FAA-2019-0268; Product Identifier 2019-NE-08-AD]

RIN 2120-AA64

Airworthiness Directives; International Aero Engines AG Turbofan Engines

AGENCY: Federal Aviation Administration (FAA), DOT.

ACTION: Notice of proposed rulemaking (NPRM).

SUMMARY: We propose to adopt a new airworthiness directive (AD) for certain International Aero Engines AG (IAE) V2500 model turbofan engines. This proposed AD was prompted by an inspection that determined that material anomalies exist in certain low-pressure turbine (LPT) stage 6 disks. This proposed AD would require removal from service of the affected LPT stage 6 disks and their replacement with a part eligible for installation. We are proposing this AD to address the unsafe condition on these products.

DATES: We must receive comments on this proposed AD by July 5, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact International Aero Engines AG, 400 Main Street, East Hartford, CT 06118; phone: 800-565-0140; email: help24@pw.utc.com; internet: http://fleetcare.pw.utc.com. You may view this service information at the FAA, Engine and Propeller Standards Branch, 1200 District Avenue, Burlington, MA 01803. For information on the availability of this material at the FAA, call 781-238-7759.

Examining the AD Docket

You may examine the AD docket on the internet at http://www.regulations.gov by searching for and locating Docket No. FAA-2019-0268; or in person at Docket Operations between 9 a.m. and 5 p.m., Monday through Friday, except Federal holidays. The AD docket contains this NPRM, the regulatory evaluation, any comments received, and other information. The street address for Docket Operations (phone: 800-647-5527) is listed above. Comments will be available in the AD docket shortly after receipt.

FOR FURTHER INFORMATION CONTACT: Scott Hopper, Aerospace Engineer, ECO Branch, FAA, 1200 District Avenue, Burlington, MA 01803; phone: 781-238-7154; fax: 781-238-7199; email: scott.hopper@faa.gov.

SUPPLEMENTARY INFORMATION:

Comments Invited

We invite you to send any written relevant data, views, or arguments about this proposal. Send your comments to an address listed under the ADDRESSES section. Include “Docket No. FAA-2019-0268; Product Identifier 2019-NE-08-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We received reports based on an inspection of material anomalies in certain LPT stage 6 disks. A manufacturer produced 18 V2500 LPT stage 6 disks from ATI, a supplier of material ingots, in late 2017. Six of those disks were rejected prior to shipment by MTU Aero Engines, a disk supplier, for melt defects at final inspection. The other twelve disks that initially passed inspection are now considered suspect. Four disk were recovered and quarantined prior to entering into service. This AD addresses the eight remaining affected disks. The material anomaly may reduce the life of the LPT stage 6 disks; therefore, all affected disks must be removed from service within the times specified in this AD. This condition, if not addressed, could result in failure of the LPT, uncontained release of the LPT stage 6 disk, damage to the engine, and damage to the airplane.

Related Service Information

We reviewed IAE Alert Service Bulletin (ASB) V2500-ENG-72-A0697, Revision No. 1, dated November 27, 2018. The ASB describes procedures for removal of the affected LPT stage 6 disks.

FAA's Determination

We are proposing this AD because we evaluated all the relevant information and determined the unsafe condition described previously is likely to exist or develop in other products of the same type design.

Proposed AD Requirements

This proposed AD would require removal and replacement of the affected LPT stage 6 disks.

Costs of Compliance

We estimate that this proposed AD affects 1 engine installed on airplanes of U.S. registry.

We estimate the following costs to comply with this proposed AD:

Estimated Costs
Action | Labor cost | Parts cost | Cost per product | Cost on U.S. operators
Replace the disk | 130 work-hours × $85 per hour = $11,050 | $155,560 | $166,610 | $166,610

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

We determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

International Aero Engines AG: Docket No. FAA-2019-0268; Product Identifier 2019-NE-08-AD.

(a) Comments Due Date

We must receive comments by July 5, 2019.

(b) Affected ADs

None.

(c) Applicability

This AD applies to International Aero Engines AG (IAE) V2522-A5, V2524-A5, V2527-A5, V2527E-A5, V2527M-A5, V2530-A5, and V2533-A5 model turbofan engines with the following engine serial numbers: V10631, V12329, V12494, V13107, V18679, V18681, V18684, and V18690.

(d) Subject

Joint Aircraft System Component (JASC) Code 7250, Turbine Section.

(e) Unsafe Condition

This AD was prompted by an inspection that determined that material anomalies exist in certain low-pressure turbine (LPT) stage 6 disks. We are issuing this AD to prevent failure of the LPT stage 6 disk. The unsafe condition, if not addressed, could result in uncontained release of the LPT stage 6 disk, damage to the engine, and damage to the airplane.

(f) Compliance

Comply with this AD within the compliance times specified, unless already done.

(g) Required Actions

At the next piece part exposure after the effective date of this AD, but not to exceed 5,000 cycles from new, remove from service LPT stage 6 disks, part number 3A2996, and with any of the following serial numbers: MAP04258; MAP04259; MAP04260, MAP04430, MAP04431, MAP08718, MAP08719; and MAP08721. Replace the affected LPT stage 6 disk with a part eligible for installation.

(h) Definition

For the purpose of this AD, piece-part exposure is when the LPT stage 6 disk is removed from the engine and completely disassembled.

(i) Alternative Methods of Compliance (AMOCs)

(1) The Manager, ECO, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. You may email your request to: ANE-AD-AMOC@faa.gov.

(2) Before using any approved AMOC, notify your appropriate principal inspector, or lacking a principal inspector, the manager of the local flight standards district office/certificate holding district office.

(j) Related Information

(1) For more information about this AD, contact Scott Hopper, Aerospace Engineer, ECO Branch, FAA, 1200 District Avenue, Burlington, MA 01803; phone: 781-238-7154; fax: 781-238-7199; email: scott.hopper@faa.gov.

(2) For service information identified in this AD, contact International Aero Engines AG, 400 Main Street, East Hartford, CT 06118; phone: 800-565-0140; email: help24@pw.utc.com; internet: http://fleetcare.pw.utc.com. You may view this service information at the FAA, Engine and Propeller Standards Branch, 1200 District Avenue, Burlington, MA 01803. For information on the availability of this material at the FAA, call 781-238-7759.

Issued in Burlington, Massachusetts, on May 13, 2019.
Robert J. Ganley,
Manager, Engine and Propeller Standards Branch, Aircraft Certification Service.

[FR Doc. 2019-10232 Filed 5-17-19; 8:45 am]

BILLING CODE 4910-13-P